DEPARTMENT OF AGRICULTURE

Agricultural Research Service

Notice of Federal Invention Available for Licensing and Intent To Grant Exclusive License

AGENCY: Agricultural Research Service, USDA.

ACTION: Notice of availability and intent.

SUMMARY: Notice is hereby given that the Federally owned invention, U.S. Patent Application Serial No. 10/973,274 entitled “Yeast Transformation System” is available for licensing and that the U.S. Department of Agriculture, Forest Service, intends to grant to Wisconsin Alumni Research Foundation (WARF) of Madison, Wisconsin, an exclusive license for this invention.

DATES: Comments must be received within ninety (90) calendar days of the date of publication of this Notice in the Federal Register.

ADDRESSES: Send comments to: Janet I. Stockhausen, USDA Forest Service, One Gifford Pinchot Drive, Madison, Wisconsin 53726-2398.

FOR FURTHER INFORMATION CONTACT: Janet I. Stockhausen of the USDA Forest Service at the Madison address given above; telephone: (608) 231-9502; fax: (608) 231-9508; or e-mail: jstockhausen@fs.fed.us.

SUPPLEMENTARY INFORMATION: The Federal Government's patent rights to this invention are assigned to the United States of America, as represented by the Secretary of Agriculture. The prospective license will be royalty-bearing and will comply with the terms and conditions of 35 U.S.C. 209 and 37 CFR 404.7. The prospective exclusive license may be granted unless, within ninety (90) days from the date of this published Notice, the Forest Service receives written evidence and argument which establishes that the grant of the license would not be consistent with the requirements of 35 U.S.C. 209 and 37 CFR 404.7.

Richard J. Brenner,
Assistant Administrator.

[FR Doc. 05-915 Filed 1-14-05; 8:45 am]

BILLING CODE 3410-03-P